DEPARTMENT OF HEALTH AND HUMAN SERVICES

National Institutes of Health

Submission for OMB Review; 30-Day Comment Request; Summer Research Internship Program (National Institute on Drug Abuse)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30 days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: Dr. Albert Avila, Director, National Institute on Drug Abuse, Office of Diversity and Health Disparity, Neuroscience Center, Building 6001, Room 3106, Rockville, Maryland 20852 or call non-toll-free number (301) 496-8804 or Email your request, including your address, to: aavila@nida.nih.gov. Formal requests for additional plans and instruments must be requested in writing.

SUPPLEMENTARY INFORMATION: This proposed information collection was previously published in the Federal Register on March 12, 2019, page 8881 (84 FR 8881) and allowed 60 days for public comment. No public comments were received. The purpose of this notice is to allow an additional 30 days for public comment. The National Institute on Drug Abuse (NIDA), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection Title: NIDA Summer Research Internship Program, 0925-0738, Expiration 03/31/2019, REINSTATEMENT WITH CHANGE, National Institute on Drug Abuse (NIDA), National Institutes of Health (NIH).

Need and Use of Information Collection: The purpose of the proposed information is for the selection of interns for the continuing NIDA Summer Research Internship Program. This request is to allow NIDA to collect information from applicants in order to meet the goals of the program and IC mission. Applicant eligibility for this program was 17 years, but is now open to those 18 and over in the year of application per NIH policy document 2019 High School Summer Internship Program (HS-SIP) Policy. NIDA will request clearance for any additional forms should new programs be introduced in the future. The information ensures that students applying to this program meet basic eligibility requirements; indicates their interest in substance abuse research, future career goals, and, if selected for the program, what research they prefer to conduct. The information also enables decision-making regarding which applicants will be selected for internships. In each case, completing the application is voluntary, but in order to receive due consideration, the prospective applicant must complete all fields required by the program.

OMB approval is requested for 3 years. There are no costs to respondents other than their time. The total estimated annualized burden hours are 250.

Estimated Annualized Burden Hours
Form | Type of respondent | Number of respondents | Number of responses per respondent | Average burden per response (in hours) | Estimated total annual burden hours
Summer Internship | Individuals-household | 250 | 1 | 1 | 250
Total |  |  | 250 |  | 250

Dated: October 16, 2019.
Lanette A. Palmquist,
Project Clearance Liaison, National Institute on Drug Abuse, National Institutes of Health.

[FR Doc. 2019-23283 Filed 10-24-19; 8:45 am]

BILLING CODE 4140-01-P